DEPARTMENT OF COMMERCE

National Oceanic and Atmospheric Administration

Agency Information Collection Activities; Submission to the Office of Management and Budget (OMB) for Review and Approval; Comment Request; Florida Fishing and Boating Survey

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before July 5, 2022.

ADDRESSES: Interested persons are invited to submit written comments to Adrienne Thomas, NOAA PRA Officer, at NOAA.PRA@noaa.gov. Please reference OMB Control Number 0648- in the subject line of your comments. Do not submit Confidential Business Information or otherwise sensitive or protected information.

FOR FURTHER INFORMATION CONTACT: Requests for additional information or specific questions related to collection activities should be directed David W. Carter, Economist, Southeast Fisheries Science Center, NMFS, 75 Virginia Beach Drive, Miami FL 33149, Tel: (305) 361-4467 or david.w.carter@noaa.gov.

SUPPLEMENTARY INFORMATION:

I. Abstract

This request is for an extension of a currently approved information collection and is sponsored by NOAA's Southeast Fisheries Science Center (SEFSC).

The objective of the data collection effort under OMB Control Number 0648- 0769 is to understand how anglers respond to changes in trip costs and/or fishing regulations in the Gulf of Mexico. This will improve the analysis of the economic effects of proposed changes in fishing regulations and changes in economic factors that affect the cost of fishing such as fuel prices. The survey will be used to develop predictive models that forecast how fishing effort changes when either trip costs change or when fishing regulations (season length or bag limits) change. The survey will ask about the number of trips anglers take under current costs and regulations and anticipated number of trips when costs and/or regulations change.

The population to be surveyed consists of those anglers who fish in the Gulf of Mexico from Florida, including those who possess a license to fish, and those who are not required to have a license (e.g., seniors). The sample will be drawn from the list of licensed Florida anglers and/or Florida private boat owners using the state of Florida's boat registration list. With the boat registration list, the sample can be targeted to anglers who fish for offshore species, when desired, and will capture those who fish from a boat but may not be required to have a fishing license (e.g. seniors). Anglers and/or boat owners will be either emailed an invitation to the online survey or mailed a postcard that directs them to a website to complete the survey. A limited number of anglers who do not respond to the online survey may receive a paper survey in the mail.

II. Method of Collection

Surveys will be conducted using two modes: Internet and mail.

III. Data

OMB Control Number: 0648- 0769.

Form Number(s): None.

Type of Review: Regular submission, extension of a current information collection.

Affected Public: Individuals or households.

Estimated Number of Respondents: 1800.

Estimated Time Per Response: Survey, 3 minutes; Non-response survey, 3 minutes.

Estimated Total Annual Burden Hours: 90 hours.

Estimated Total Annual Cost to Public: $0 in record keeping and reporting costs.

Respondent's Obligation: Voluntary.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-09819 Filed 5-5-22; 8:45 am]

BILLING CODE 3510-22-P